DEPARTMENT OF THE INTERIOR

National Park Service

Meeting Announcement

AGENCY: National Park Service, Interior.

ACTION: Announcement of Denali National Park Subsistence Resource Commission meeting.

SUMMARY: Notice is hereby given in accordance with the Federal Advisory Committee Act that a meeting of the Denali National Park Subsistence Resource Commission will be held at Healy, Alaska. The purpose of the meeting will be to review Federal Subsistence Board wildlife proposals and continue work on National Park Service subsistence hunting program recommendations including other related subsistence management issues. The meeting will be open to the public. Any person may file with the Commission a written statement concerning the matters to be discussed.

The Subsistence Resource Commission is authorized under Title VIII, Section 808, of the Alaska National Interest Lands Conservation Act, Pub. L. 96-487, and operates in accordance with the provisions of the Federal Advisory Committee Act.

DATES: The meeting will be held on Friday, March 5, 2004, from 9 a.m. to 5 p.m. at the Nord Haven Motel, Healy, Alaska. GSA regulations (41 CFR 102-3.150) governing advisory committee meetings allow us, in exceptional circumstances, to give less than 15 days advance notice prior to an advisory committee meeting. It is necessary for us to publish this notice less than 15 days prior to the meeting so that the work of the committee can be made available for consideration at the March 9, 2004, meeting of the Southcentral Regional Advisory Council meeting.

FOR FURTHER INFORMATION CONTACT: Hollis Twitchell, Subsistence and Cultural Resources Manager at (907) 683-9544 or (907) 455-0673.

SUPPLEMENTARY INFORMATION: Notice of this meeting will be published in local newspapers and announced on local radio stations prior to the meeting dates. Locations and dates may need to be changed based on weather or local circumstances.

The following agenda items will be discussed:

1. Call to order.

2. Roll call and confirmation of quorum.

3. Superintendent's welcome and introductions.

4. Approval of minutes from last Commission meeting.

5. Additions and corrections to draft agenda.

6. Public and other agency comments.

7. Old Business.

a. Cantwell Resident Zone Hunting Plan.

b. Denali Backcountry Management Plan.

c. North Access and Facilities Studies.

d. Predator-Prey research studies.

8. New Business.

a. Federal Subsistence Wildlife proposals for 2004-2005.

b. ATV use in Denali.

c. Alaska Board of Game Wildlife Proposals 2004-2005.

9. NPS reports and updates.

a. Moose surveys: Kantishna Hills, Cantwell areas.

b. Salmon Surveys.

c. Community Harvest Assessments.

d. Visitor Center Interpretative Displays.

e. Nikolai-Telida Village History Report.

f. October 2003 SRC Chairs Workshop Report.

10. Public and other agency comments.

11. Set time and place of next Denali SRC meeting.

12. Adjournment.

Draft minutes of the meeting will be available for public inspection approximately six weeks after the meeting from: Superintendent, Denali National Park and Preserve, P.O. Box 9, Denali Park, AK 99755.

Dated: February 20, 2004.
Kathryn C. Collins,
Acting Regional Director, Alaska.

[FR Doc. 04-4284 Filed 2-25-04; 8:45 am]

BILLING CODE 4312-64-P